COMMITTEE FOR THE IMPLEMENTATION OF TEXTILE AGREEMENTS

New Transshipment Charges for Certain Cotton and Man-Made Fiber Textile Products Produced or Manufactured in the People's Republic of China

December 7, 2001.

AGENCY: Committee for the Implementation of Textile Agreements (CITA).

ACTION: Issuing a directive to the Commissioner of Customs charging transshipments to 2001 limits.

EFFECTIVE DATE: December 10, 2001.

FOR FURTHER INFORMATION CONTACT: Roy Unger, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

In a notice published in the Federal Register on September 11, 1996 (61 FR 47892), CITA announced that Customs would be conducting investigations of transshipments of textile products produced in China and exported to the United States. Based on investigations by the U.S. Customs Service (Customs), Customs has determined that textile products in certain categories, produced or manufactured in China and entered into the United States, were entered in circumvention of the bilateral agreement effected by the Memorandum of Understanding (MOU) of February 1, 1997, and extended October 31, 2000. Consultations were held between the Governments of the United States and the People’s Republic of China on this matter on October 17-18, 2001 and on December 6-7, 2001. Pursuant to Paragraph 13(E) of the bilateral MOU, the United States may charge three times the amounts transshipped to China’s negotiated quantitative limits under certain conditions. Certain shipments made in 1998 of categories 338-S/339-S, 348, 638, 639, and 648 are eligible for triple charging under these provisions. Accordingly, these shipments will be triple charged to China’s quotas. In the letter published below, the Chairman of CITA directs the Commissioner of Customs to charge the amounts listed in the letter below to the 2001 quota levels.

A description of the textile and apparel categories in terms of HTS numbers is available in the CORRELATION: Textile and Apparel Categories with the Harmonized Tariff Schedule of the United States (see Federal Register notice 65 FR 82328, published on December 28, 2000). Information regarding the availability of the 2002 CORRELATION will be published in the Federal Register at a later date.

D. Michael Hutchinson,
Acting Chairman, Committee for the Implementation of Textile Agreements.

Committee for the Implementation of Textile Agreements

December 7, 2001.

Commissioner of Customs,

Department of the Treasury, Washington, DC 20229.

Dear Commissioner: To facilitate implementation of the Bilateral Textile Memorandum of Understanding dated February 1, 1997, between the Governments of the United States and the People's Republic of China, you are directed, effective on December 10, 2001, to charge the following amounts to the following categories for the 2001 restraint period (see directive dated December 20, 2000):

Category | Amounts to be charged
334 | 245 dozen.
338/339 | 11,532 dozen.
338-S/339-S | 23,562 dozen.
340 | 13,073 dozen.
340-Z | 15,270 dozen.
345 | 1,374 dozen.
347/348 | 174,287 dozen.
352 | 104,022 dozen.
638/639 | 123,373 dozen.
647 | 1,096 dozen.
648 | 18,388 dozen.

The Committee for the Implementation of Textile Agreements has determined that these actions fall within the foreign affairs exception to the rulemaking provisions of 5 U.S.C.553(a)(1).

D. Michael Hutchinson,

Acting Chairman, Committee for the Implementation of Textile Agreements.

[FR Doc. 01-30662 Filed 12-7-01; 10:35 am]

BILLING CODE 3510-DR-S